PRESIDIO TRUST

Presidio Theatre Building 99, The Presidio of San Francisco, California; Notice of Intent To Prepare an Environmental Assessment

AGENCY: The Presidio Trust.

ACTION: Notice of intent to prepare an Environmental Assessment (EA) for the rehabilitation and expansion of the Presidio Theatre (Building 99) within The Presidio of San Francisco, San Francisco, California (Presidio).

SUMMARY: The Presidio Trust has received a proposal from one of its tenants, the San Francisco Film Centre, for rehabilitation and expansion of the Presidio Theatre within the Presidio. Pursuant to section 102(2)(c) of the National Environmental Policy Act of 1969 (Pub. L. 91-90 as amended), The Presidio Trust will prepare an EA for rehabilitating the existing 15,140-square-foot Presidio Theater and adding 45,000 square feet of new construction for theater uses, a restaurant, retail museum and library store (proposed action). The EA will include brief discussions of the need for the proposal, alternatives including “no action” and reuse of existing buildings to minimize new construction, the environmental impacts of the proposed action and alternatives, and a listing of agencies and persons consulted. Based on a preliminary review of the proposed action, issues and impact topics to be analyzed include the following: Traffic and transportation systems; cultural resources (effect on national historic landmark district and archeological resources); hydrology and water quality; visual resources and scenic viewing; fire protection; air quality; and noise.

PUBLIC COMMENT: The Presidio Trust will hold a public scoping workshop to solicit comment regarding the range of alternatives and the specific impacts to be evaluated in the EA on May 10, 2000, from 6:00 to 9:00 p.m., at the Log Cabin (Presidio Building #1299) in the Presidio. Comments concerning the scope of this project must be received by May 24, 2000. The Presidio Trust will provide other informal information updates and notices concerning this project through postings on its website at www.presidiotrust.gov or through its monthly publication, the Presidio Post. The Presidio Trust will announce the release of the EA by notice in the Federal Register and the Presidio Post, and through a direct mailing to the affected public. The Presidio Trust also anticipates that the GGNRA Advisory Commission will include this project proposal on the agenda of one of its upcoming public meetings, which will be publicly announced when the meeting date is established.

ADDRESSES: Written comments concerning this notice must be sent to John Pelka, NEPA Compliance Coordinator, The Presidio Trust, 34 Graham Street, P.O. Box 29052, San Francisco, CA 94129-0052. Fax: 415-561-5315. E-mail: jpelka@presidiotrust.gov.

FOR FURTHER INFORMATION CONTACT: John Pelka, NEPA Compliance Coordinator, The Presidio Trust, 34 Graham Street, P.O. Box 29052, San Francisco, CA 94129-0052. Telephone: 415-561-5300.

Dated: April 7, 2000.
Karen Cook,
General Counsel.

[FR Doc. 00-9191 Filed 4-13-00; 8:45 am]

BILLING CODE 4310-4R-U